DEPARTMENT OF TRANSPORTATION

Transportation Security Administration

[Docket No. TSA-2002-11604]

Security Programs For Aircraft 12,500 Pounds or More

AGENCY: Transportation Security Administration (TSA), DOT.

ACTION: Notice.

SUMMARY: This notice extends the date on which operators must be in compliance with the Twelve-Five Standard Security Program, from December 1, 2002 to February 1, 2003.

DATES: Compliance date: February 1, 2003.

FOR FURTHER INFORMATION CONTACT: Emily Chodkowski, Transportation Security Specialist, Office of Security Regulation and Policy, telephone: (202) 385-1838, email: Emily.Chodkowski@tsa.dot.gov.

SUPPLEMENTARY INFORMATION: On February 22, 2002, TSA published a final rule in the Federal Register (67 FR 8205), known as the “Twelve-Five Rule,” that, in part, required new security measures for operators of aircraft with a maximum certificated takeoff weight of 12,500 pounds or more. See 49 CFR part 1544. Under the rule, these operators must adopt and carry out certain security measures approved by TSA, generally known as the “Twelve-Five Security Program.” As published, the effective date of the Twelve-Five Rule was June 24, 2002. This document does not alter that date. On August 28, 2002, TSA published a notice in the Federal Register (67 FR 55308) announcing that it would issue the Twelve-Five Security Program to affected entities for review and comment. Security programs constitute sensitive security information (SSI), which can be disclosed only to persons with a need to know, in accordance with 49 CFR part 1520. Therefore, the Twelve-Five Security Program could be distributed only to affected operators for comment. TSA also stated in the Notice that all operators were required to operate in accordance with the security program by December 1, 2002.

Many of the operators subject to the Twelve-Five Security Program are small entities that were not subject to aviation security regulations prior to issuance of this rule. Consequently, these operators have not previously conducted fingerprint-based criminal history record checks (CHRC) on their employees, trained staff, and flight crew on security measures, or operated in accordance with a security program. There are approximately 850 operators subject to this new standard, and many are having a great deal of difficulty completing the CHRC and training requirements, for a variety of reasons.

Many operators are located in remote areas where there are no aviation organizations available that typically assist with the fingerprinting process. Some operators have attempted to capture fingerprints by using a local law enforcement agency or other security establishment, and the fingerprints are not taken correctly, or the appropriate chain of custody does not exist, and so these prints must be disqualified. In addition, many of the operators do not have access to the databases that contain CHRC information, and so completing the search is not possible. Finally, many of the operators have just one or two employees, and so special procedures must be put in place to prevent an operator from reviewing his or her own CHRC information, or the CHRC of an employee who may be a family member or friend. TSA is working internally and with these operators to establish processes that will facilitate completing the CHRC requirement to avoid all of these problems. However, it is clear that a large number of affected operators will not be able to meet the December 1, 2002, compliance date on flight crew CHRCs.

The security program requires security training for individuals involved in Twelve-Five operations. Due to the high number of operators, their lack of prior exposure to security training programs, and the decentralized nature of this sector of the industry, an organized training regime has not been established. TSA is developing a template curriculum that will provide operators with the appropriate information to create a security training program.

For all of the foregoing reasons, TSA has determined that the compliance date for the Twelve-Five Security Program must be extended to February 1, 2003.

Issued in Washington, DC, on November 1, 2002.
Thomas Blank,
Associate Under Secretary for Security Regulation and Policy.

[FR Doc. 02-28644 Filed 11-6-02; 12:02 pm]

BILLING CODE 4910-62-P